OFFICE OF PERSONNEL MANAGEMENT

Submission for Review: 3206-0254, Request for Case Review for Enhanced Disability Annuity Benefit, RI 20-123

AGENCY: U.S. Office of Personnel Management.

ACTION: 30-Day notice and request for comments.

SUMMARY: Retirement Services, Office of Personnel Management (OPM) offers the general public and other Federal agencies the opportunity to comment on an expiring information collection without change, Request for Case Review for Enhanced Disability Annuity Benefit, RI 20-123.

DATES: Comments are encouraged and will be accepted until September 23, 2022.

ADDRESSES: Written comments and recommendations for the proposed information collection should be sent within 30 days of publication of this notice to http://www.reginfo.gov/public/do/PRAMain . Find this particular information collection by selecting “Currently under Review—Open for Public Comments” or by using the search function.

FOR FURTHER INFORMATION CONTACT: A copy of this information collection, with applicable supporting documentation, may be obtained by contacting the Retirement Services Publications Team, Office of Personnel Management, 1900 E Street NW, Room 3316-L, Washington, DC 20415, Attention: Cyrus S. Benson, or sent via electronic mail to Cyrus.Benson@opm.gov or faxed to (202) 606-0910 or via telephone at (202) 606-4808.

SUPPLEMENTARY INFORMATION: As required by the Paperwork Reduction Act of 1995 OPM is soliciting comments for this collection. The information collection (OMB No. 3206-0254) was previously published in the Federal Register on March 10, 2022 at 87 FR 13777, allowing for a 60-day public comment period. OPM received no comments in response to its request for this collection. The purpose of this notice is to allow an additional 30 days for public comments. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

RI 20-123 will be available to annuitants and survivor annuitants on the OPM website by the end of 2022. It is used by retirees who have retired under disability annuity provisions and who have performed service as law enforcement officers, firefighters, nuclear materials carriers, air traffic controllers, Congressional employees, Members of Congress, Capitol and Supreme Court police, or Custom and Border protection officers (and their survivors or beneficiaries), to request that Retirement Operations review the computations of the retiree's disability annuities. Upon receipt of this form, OPM will ensure it has computed the disability annuity in accordance with applicable statues. These provisions require OPM to compute the disability annuities of affected retirees using the higher annuity amount computed under the disability annuity computation provisions or the enhanced immediate retirement computation provisions specifically applicable to these special employee populations. When OPM receives form RI 20-123 from an annuitant, survivor or beneficiary it will take action to review the retiree's annuity computation and, if the retiree is entitled to an increased benefit, or if a survivor or beneficiary is entitled to amounts accrued but unpaid to a deceased retiree, OPM will process accordingly.

Analysis

Agency: Retirement Operations, Retirement Services, Office of Personnel Management.

Title: Request for Case Review for Enhanced Disability Annuity Benefit.

OMB Number: 3206-0254.

Frequency: On occasion.

Affected Public: Individuals or Households.

Number of Respondents: 100.

Estimated Time Per Respondent: 5 minutes.

Total Burden Hours: 8.

U.S. Office of Personnel Management.
Stephen Hickman,
Federal Register Liaison.

[FR Doc. 2022-18183 Filed 8-23-22; 8:45 am]

BILLING CODE 6325-38-P